FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A Copy of the agreement is available through the Commission's Web site (www.fmc.gov) or by contacting the Office of Agreements at (202)-523-5793 or tradeanalysis@fmc.gov.

Agreement No.: 012068-002.

Title: Grand Alliance/Zim/HSDG Atlantic Space Charter Agreement.

Parties: Hapag-Lloyd AG; Nippon Yusen Kaisha; Orient Overseas Container Line Inc., Orient Overseas Container Line Limited, and Orient Overseas Container Line (Europe) Limited (acting as a single party); Zim Integrated Shipping Services Limited; and Hamburg Süd KG.

Filing Party: Wayne Rohde, Esq.; Cozen O'Connor; 1627 I Street NW., Suite 1100; Washington, DC 20006.

Synopsis: The amendment would delete Zim as a party to the agreement, change the name of the agreement, increase the size of the vessels that the parties are authorized to operate, and clarify and delete obsolete language in the agreement. The amendment would also restate the agreement.

Dated: June 20, 2013.
By Order of the Federal Maritime Commission.
Karen V. Gregory,
Secretary.

[FR Doc. 2013-15219 Filed 6-25-13; 8:45 am]

BILLING CODE 6730-01-P